DEPARTMENT OF TRANSPORTATION

Federal Highway Administration

Environmental Impact Statement: Caddo Parish, LA

AGENCY: Federal Highway Administration (FHWA), DOT.

ACTION: Notice of intent.

SUMMARY: The FHWA is issuing this notice to advise the public that an Environmental Impact Statement will be prepared for a proposed highway project in Caddo Parish, Louisiana.

FOR FURTHER INFORMATION CONTACT: Mr. Carl M. Highsmith, Project Delivery Team Leader, Louisiana Division, Federal Highway Administration, 5304 Flanders Drive, Suite A, Baton Rouge, LA 70808, Telephone: (225) 757-7615; or online at www.I49shreveport.com.

SUPPLEMENTARY INFORMATION: The FHWA, in cooperation with the Louisiana Department of Transportation and Development (DOTD) and the Northwest Louisiana Council of Governments (NLCOG), will prepare an Environmental Impact Statement (EIS) on a proposal to construct the I-49 Inner City Connector.

The proposed project is an approximate 3.8 mile new freeway designed to connect existing I-49 at its current junction with I-20 to future I-49 North at its proposed junction with I-220 in Shreveport, Louisiana. The proposed project will provide for improved connectivity and reduce the distance between existing I-49 and future I-49 North by approximately 7 miles. Alternatives under consideration include: (1) Taking no action; (2) constructing an elevated freeway on new location; (3) constructing an at-grade freeway on new location; and (4) constructing a freeway that is partly elevated and partly at-grade on new location. Incorporated into and studied with the various build alternatives will be design variations of grade and alignment.

Letters describing the proposed project and soliciting comments were sent to appropriate Federal, State, and local agencies, and to private organizations and citizens who have previously expressed or are known to have interest in this proposal. A series of Community Input Meetings were held at various locations in Shreveport in December 2011. In addition, a second round of Community Input Meetings are planned for spring 2012 followed by a Public Hearing late 2012. Public notice will be given of the time and place of the meetings and hearing. The draft EIS will be available for public and agency review and comment prior to the Public Hearing. A formal scoping meeting was held at NLCOG on October 18, 2011, when the NLCOG approved the decision to move the project forward as an Environmental Assessment. On December 1, 2011, FHWA determined the required class of action to comply with the NEPA process as an Environmental Impact Statement. Additional public scoping was conducted during the Community Input Meetings held in December 2011.

To ensure that the full range of issues related to this proposed project are addressed and all significant issues identified, comments, and suggestions are invited from all interested parties. Comments or questions concerning this proposed project and the EIS should be directed to the FHWA at the address provided above.

(Catalog of Federal Domestic Assistance Program Number 20.205, Highway Planning and Construction. The regulations implementing Executive Order 12372 regarding intergovernmental consultation on Federal programs and activities apply to this program.)

Issued on: January 12, 2012.
Charles W. Bolinger,
Division Administrator, Baton Rouge, Louisiana.

[FR Doc. 2012-2772 Filed 2-7-12; 8:45 am]

BILLING CODE 4910-22-P